DEPARTMENT OF ENERGY

Federal Energy Regulatory Commission

Combined Notice of Filings #1

Take notice that the Commission received the following exempt wholesale generator filings:

Docket Numbers: EG17-23-000.

Applicants: Pima Energy Storage System, LLC.

Description: Notice of Self-Certification of Exempt Wholesale Generator Status of Pima Energy Storage System, LLC.

Filed Date: 11/2/16.

Accession Number: 20161102-5166.

Comments Due: 5 p.m. ET 11/23/16.

Docket Numbers: EG17-24-000.

Applicants: Portal Ridge Solar A, LLC.

Description: Portal Ridge Solar A, LLC submits Notice of Self-Certification of Exempt Wholesale Generator Status.

Filed Date: 11/3/16.

Accession Number: 20161103-5077.

Comments Due: 5 p.m. ET 11/25/16.

Take notice that the Commission received the following electric rate filings:

Docket Numbers: ER10-2507-009.

Applicants: Westar Energy, Inc.

Description: Notice of Non-Material Change in Status of Westar Energy, Inc.

Filed Date: 11/2/16.

Accession Number: 20161102-5190.

Comments Due: 5 p.m. ET 11/23/16.

Docket Numbers: ER13-1536-012; ER10-2192-028; ER15-1537-005; ER15-1539-005; ER10-2178-028; ER11-2010-025 ER12-1829-015; ER12-1223-020.

Applicants: Exelon Generation Company, LLC, Constellation Energy Commodities Group Maine, LLC, Constellation Energy Services, Inc., Constellation Energy Services of New York Inc., Constellation NewEnergy, Inc., Exelon Wind 4, LLC, Shooting Star Wind Project, LLC, Wildcat Wind, LLC.

Description: Notice of change in status of Exelon Generation Company, LLC, et al.

Filed Date: 11/2/16.

Accession Number: 20161102-5188.

Comments Due: 5 p.m. ET 11/23/16.

Docket Numbers: ER16-201-001.

Applicants: Duke Energy Indiana, LLC.

Description: Compliance filing: Reactive Rate for Madison Compliance Filing to be effective 1/1/2016.

Filed Date: 11/3/16.

Accession Number: 20161103-5095.

Comments Due: 5 p.m. ET 11/25/16.

Docket Numbers: ER16-2323-001.

Applicants: Appalachian Power Company.

Description: Tariff Amendment: OATT—Revise Attachment K, TCC Rate Update Amendment to be effective 12/31/9998.

Filed Date: 11/3/16.

Accession Number: 20161103-5099.

Comments Due: 5 p.m. ET 11/14/16.

Docket Numbers: ER16-2675-000.

Applicants: AltaGas Pomona Energy Storage Inc.

Description: Supplement to September 27, 2016 AltaGas Pomona Energy Storage Inc. tariff filing.

Filed Date: 10/31/16.

Accession Number: 20161031-5297.

Comments Due: 5 p.m. ET 11/10/16.

Docket Numbers: ER16-2684-002.

Applicants: Nippon Dynawave Packaging Co.

Description: Tariff Amendment: MBRA Application to be effective 9/30/2016.

Filed Date: 11/3/16.

Accession Number: 20161103-5098.

Comments Due: 5 p.m. ET 11/25/16.

Docket Numbers: ER16-2703-000.

Applicants: Deerfield Wind Energy, LLC.

Description: Supplement to September 29, 2016 Deerfield Wind Energy, LLC tariff filing.

Filed Date: 11/1/16.

Accession Number: 20161101-5284.

Comments Due: 5 p.m. ET 11/22/16.

Docket Numbers: ER17-296-000.

Applicants: Southwest Power Pool, Inc.

Description: § 205(d) Rate Filing: 3221 Grain Belt Express Clean Line/ITC Great Plains Interconnection Agreement to be effective 10/17/2016.

Filed Date: 11/3/16.

Accession Number: 20161103-5027.

Comments Due: 5 p.m. ET 11/25/16.

Docket Numbers: ER17-297-000.

Applicants: Ampex Energy, LLC.

Description: Baseline eTariff Filing: Application for Market Based Rate Authorization to be effective 11/15/2016.

Filed Date: 11/3/16.

Accession Number: 20161103-5044.

Comments Due: 5 p.m. ET 11/25/16.

Docket Numbers: ER17-298-000.

Applicants: Iron Energy LLC.

Description: Notice of Cancellation of Market-Based Rate Tariff of Iron Energy LLC.

Filed Date: 11/1/16.

Accession Number: 20161101-5283.

Comments Due: 5 p.m. ET 11/22/16.

Docket Numbers: ER17-299-000.

Applicants: Luning Energy LLC.

Description: Request for Authorization to Undertake Affiliate Sales of Luning Energy LLC.

Filed Date: 11/2/16.

Accession Number: 20161102-5180.

Comments Due: 5 p.m. ET 11/23/16.

Docket Numbers: ER17-300-000.

Applicants: Southwest Power Pool, Inc.

Description: Petition for Waiver of Tariff Provisions of Southwest Power Pool, Inc.

Filed Date: 11/2/16.

Accession Number: 20161102-5185.

Comments Due: 5 p.m. ET 11/23/16.

Docket Numbers: ER17-301-000.

Applicants: NextEra Energy, Inc.

Description: Petition for Waiver of Affiliate Pricing Rules of NextEra Energy, Inc.

Filed Date: 11/2/16.

Accession Number: 20161102-5186.

Comments Due: 5 p.m. ET 11/23/16.

Docket Numbers: ER17-302-000.

Applicants: Portal Ridge Solar A, LLC.

Description: Baseline eTariff Filing: Shared Facilities Agreement Concurrence to be effective 11/4/2016.

Filed Date: 11/3/16.

Accession Number: 20161103-5080.

Comments Due: 5 p.m. ET 11/25/16.

Docket Numbers: ER17-303-000.

Applicants: Portal Ridge Solar A, LLC.

Description: § 205(d) Rate Filing: Co-Tenancy Agreement Concurrence to be effective 11/4/2016.

Filed Date: 11/3/16.

Accession Number: 20161103-5094.

Comments Due: 5 p.m. ET 11/25/16.

Docket Numbers: ER17-304-000.

Applicants: Big Turtle Wind Farm, LLC.

Description: Baseline eTariff Filing: Shared Facilities Agreement Filing to be effective 11/4/2016.

Filed Date: 11/3/16.

Accession Number: 20161103-5101.

Comments Due: 5 p.m. ET 11/25/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2016.
Nathaniel J. Davis, Sr.,
Deputy Secretary.

[FR Doc. 2016-27065 Filed 11-8-16; 8:45 am]

BILLING CODE 6717-01-P